DEPARTMENT OF HEALTH AND HUMAN SERVICES

National Institutes of Health

Prospective Grant of an Exclusive License: Therapeutics for the Treatment of Retinopathy

AGENCY: National Institutes of Health, Public Health Service, DHHS.

ACTION: Notice.

SUMMARY: This notice, in accordance with 35 U.S.C. 209(c)(1) and 37 CFR Part 404.7(a)(1)(i), announces that the National Institutes of Health, Department of Health and Human Services, is contemplating the grant of an exclusive license to practice the inventions embodied in 1. E-223-1992/0-US-01, “SIGNAL TRANSDUCTION INHIBITOR COMPOUNDS”, by Elise Kohn, Lance Liotta, Christian Felder, issued Pat No. 5,359,078 (issue date October 25, 1994); 2. E-223-1992/0-US-02, “SIGNAL TRANSDUCTION INHIBITOR TRIAZOLE AND DIAZOLE COMPOUNDS” by Elise Kohn, Lance Liotta, Christian Felder, issued Pat No. 5,482,954 (issue date January 9, 1996); 3. E-223-1992/0-US-03, “SIGNAL TRANSDUCTION INHIBITOR 1,2,3,-TRIAZOLO COMPOUNDS” by Elise Kohn, Lance Liotta, Christian Felder, issued Pat No. 5,498,620, (issued date March 12, 1996); 4. E-223-1992/0-US-04, “SIGNAL TRANSDUCTION INHIBITOR COMPOUNDS” by Elise Kohn, Lance Liotta, Christian Felder, issued Pat No 5,705,514 (issued date January 6, 1998); 5. E-223-1992/0-US-05, “SIGNAL TRANSDUCTION INHIBITOR COMPOUNDS” by Elise Kohn, Lance Liotta, Christian Felder, issued Pat No 5,880,129 (issued date March 9, 1999); 6. E-068-1991/1-US-01, “METHOD FOR INHIBITING METALLOPROTEINASE EXPRESSION” by Elise Kohn, Lance Liotta, issued Pat No. Pat No. 5,602,156 (issued date February 11, 1997); 7. E-220-1993/1-US-01 “METHOD FOR INHIBITING ANGIOGENESIS” by Elise Kohn, Lance Liotta and Riccardo Alessandro issued patent No 5,744,492 (issue date April 28,1998), to RFE Pharma, having a place of business in Framingham, MA. The patent rights in these inventions have been assigned to the United States of America.

The prospective exclusive license territory may be worldwide, and the field of use may be limited to therapeutics for the treatment of retinopathy.

DATES: Only written comments and/or license applications which are received by the National Institutes of Health on or before June 14, 2005, will be considered.

ADDRESSES: Requests for copies of the patent and/or patent applications, inquiries, comments and other materials relating to the contemplated exclusive license should be directed to: John Stansberrry, Ph.D., Technology Licensing Specialist, Office of Technology Transfer, National Institutes of Health, 6011 Executive Boulevard, Suite 325, Rockville, MD 20852-3804; telephone: (301) 435-5236; Facsimile: (301) 402-0220; e-mail: stansbej@mail.nih.gov.

SUPPLEMENTARY INFORMATION: The present invention provides composition of matter claims and methods for inhibiting angiogenesis in a host using carboxyamido-triazole (CAI) and related analogs. The calcium influx inhibitor and matrix metalloproteinase expression inhibitor, CAI, has shown anti-cancer activity due to its ability to influence signal transduction pathways. CAI and CAI analogues inhibit endothelial cell adhesion and migration in response to basement membrane components and thus block new vessel formation. Pharmaceutical applications directed to inhibiting angiogenesis offer novel approaches to the treatment of cancer, diabetic retinopathy, hemangiomata, vasculidities and other diseases associated with angiogenesis.

The prospective exclusive license will be royalty-bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: April 6, 2005.
Steven M. Ferguson,
Director, Division of Technology Development and Transfer, Office of Technology Transfer, National Institutes of Health.

[FR Doc. 05-7542 Filed 4-14-05; 8:45 am]

BILLING CODE 4140-01-P